DEPARTMENT OF HEALTH AND HUMAN SERVICES

Centers for Disease Control and Prevention

[30Day-04-0455X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Learning from Principal Investigators of Research Projects Funded through the Extramural Prevention Research Program: How Can CDC Best Support Participatory Research and the Dissemination and Translation of Research Findings? — New—Public Health Practice Program Office (PHPPO), Centers for Disease Control and Prevention (CDC).

Two of the current priorities of CDC are to (1) substantially increase CDC's extramural public health research portfolio and budget and (2) develop a more client-oriented or customer-focused approach in all of CDC's activities. As part of its strategy to strengthen and expand extramural public health research, CDC received new money from Congress in 1999 to establish an extramural prevention research program. This program would focus on linking the talents and skills of university-based scientists with the resources of health departments, community-based programs, and national organizations in order to try to better respond to the health needs of individual communities.

Through its first round, the Extramural Prevention Research Program (EPRP), then known as the Prevention Research Initiative, provided $12.5 million in funding annually to support 56 three-year research projects based in states and localities throughout the country. The topics of these research projects were as diverse as asthma, traumatic brain injuries, tobacco control, workplace safety, and health disparities. All of the projects were community-based, and approximately one-third used a participatory approach in which, rather than just having community members be subjects of the research as is the usual case, researchers were to engage members of the community being studied (i.e., those who were expected to be the users of the research findings) in the research process itself. It is believed that engaging the users in the research will make it more likely that the research undertaken will address their actual needs and that they will be more likely to apply the research findings.

Because of this commitment, CDC and many other federal and non-federal funding agencies are very interested in funding participatory research. Yet, anecdotal information and findings from an evaluation project conducted by CDC suggested that funding programs may need to adjust their expectations, requirements, and communication strategies if they want to attract and adequately support the conduct of participatory research projects, and if they want to best support the dissemination and translation into practice of research findings. Therefore, this project will involve conducting one-on-one, semi-structured, open-ended, qualitative interviews with the principal investigators of the grants funded in the first round of the EPRP in order to learn how CDC can best support community-based and participatory research, and how it can best participate in the dissemination and translation of the studies' findings into practice. The approximate annualized burden is 36 hours.

Respondents | Number of respondents | Number of responses/respondent | Average burden/response (in hrs.)
Principal Investigators funded through the first round of the EPRP who self-report that they used a participatory research approach | 30 | 1 | 45/60
Principal Investigators funded through the first round of the EPRP who self-report that they did not use a participatory research approach | 26 | 1 | 30/60

Dated: October 4, 2004.
Alvin Hall,
Director, Management Analysis and Services Office, Centers for Disease Control and Prevention.

[FR Doc. 04-22819 Filed 10-8-04; 8:45 am]

BILLING CODE 4163-18-U